DEPARTMENT OF HEALTH AND HUMAN SERVICES

Office of Public Health and Science; Title XVII of the Public Health Service Act; Delegation of Authority

Notice is hereby given that in furtherance of the delegation of authority to the Assistant Secretary for Health on September 28, 1979, by the Secretary of Health, Education and Welfare, the Acting Assistant Secretary for Health has delegated to the Deputy Assistant Secretary for Population Affairs all of the authorities under Title XVII of the Public Health Service Act, as amended, pertaining to the mission of the Office of Population Affairs, OSOPHS. The delegation excludes the authorities to issue regulations and to submit reports to the President. The delegation includes, but is not limited to, the authorities under sections 1704(1) and (2).

In addition, I have affirmed and ratified any actions taken by the Deputy Assistant Secretary for Population Affairs which in effect involve the exercise of the authorities delegated herein prior to the effective date of the delegation.

Redelegation

This authority may not be redelegated.

Prior Delegations

All previous delegations and redelegations under Title XVII of the Public Health Service Act shall continue in effect, provided they are consistent with this delegation.

Effective Date: This delegation became effective on the date stated below.

Dated: June 11, 2008.
Joxel Garcia,
Assistant Secretary for Health.

[FR Doc. E8-13649 Filed 6-18-08; 8:45 am]

BILLING CODE 4150-48-M